DEPARTMENT OF EDUCATION

RIN 1840-ZA03

Upward Bound Program Participant Expansion Initiative

AGENCY: Office of Postsecondary Education, Department of Education

ACTION: Notice of proposed priority.

SUMMARY: Using fiscal year (FY) 2003 funds, the Secretary of Education proposes to establish an absolute priority to provide supplemental funds of up to $100,000 to selected Upward Bound Program projects. Those eligible to receive funds under this absolute priority must have received supplemental funds in FY 2000 and serve at least one target high school in which at least 50 percent of the students were eligible for free lunch under the National School Lunch Act during the 2001-2002 school year. Applicants not eligible for the absolute priority are invited to apply and will be funded, subject to availability of funds, as described in the funding order below. The selected projects must use the supplemental funds to provide services to eligible project participants with the greatest need for those services.

The Secretary further proposes that projects that receive supplemental funds under this priority are required to select otherwise eligible participants who attend a target high school in which at least 50 percent of the students were eligible for free lunch under the National School Lunch Act during the 2001-2002 school year and who have the greatest need for Upward Bound services. Otherwise, eligible students having the greatest need for Upward Bound services are those who:

1. Have not met the State academic achievement standard for grade eight in reading/language arts;

2. Have not met the State academic achievement standard for grade eight in math; or

3. Have a grade point average of 2.5 or less (on a 4.0 scale) for the most recent school year for which grade point averages are available.

By using State academic achievement assessments to determine student eligibility for services, schools can align this initiative with the requirements and activities supported by the No Child Left Behind Act of 2001.

DATES: We must receive your comments on or before July 24, 2003.

ADDRESSES: Address all comments about this proposed priority to Larry Oxendine, U.S. Department of Education, 1990 K Street, NW., Room 7044, Washington, DC 20006-8510. If you prefer to send your comments through the Internet, use the following address: margarita.benitez@ed.gov.

FOR FURTHER INFORMATION CONTACT: Margarita Benitez, Sheryl Wilson, or Gaby Watts, U.S. Department of Education, 1990 K Street, NW., Room 7020, Washington, DC 20006-8510. Telephone (202) 502-7600.

If you use a telecommunications device for the deaf (TDD), you may call the Federal Information Relay Service (FIRS) at 1-800-877-8339.

Individuals with disabilities may obtain this document in an alternative format (e.g., Braille, large print, audiotape, or computer diskette) on request to the contact persons listed in the preceding paragraph.

SUPPLEMENTARY INFORMATION:

Invitation To Comment

We invite you to submit comments regarding this proposed priority. During and after the comment period, you may inspect all public comments about this priority in room 7039, 1990 K Street, NW., Washington, DC, between the hours of 8:30 a.m. and 4 p.m. Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, you may call (202) 502-7600. If you use a TDD, you may call the Federal Information Relay Service (FIRS) at 1-800-877-8339.

Background

In FY 2003, the Congress appropriated more funds than the Administration requested for the Federal TRIO Programs. In examining the options available to the Secretary for allocating these additional funds, the Secretary determined that a portion of the funds should be used to increase support to the Upward Bound Program. The Upward Bound Program, authorized under section 402C of the Higher Education Act of 1965 as amended (HEA), 20 U.S.C. 1070a-13, helps low-income, potential first-generation, college students acquire the skills and motivation necessary for success in education beyond secondary school.

The purpose of this proposed supplement is to help the Upward Bound Program achieve one of its key performance goals: increasing the college enrollment rate of low-income, first generation college students. A recent evaluation of the Upward Bound Program found it has not been effective in increasing college preparation and enrollment of its program participants. The evaluation did find that the program has significant effects on higher risk students, but that the program was inadequately targeted to these students.

Under the absolute priority, the Upward Bound Program will increase the number of eligible students with the greatest need who are served by the Upward Bound Program. The students with the greatest need are generally those from the lowest income levels who have potential for college but are not performing successfully in high school. The Secretary believes that limiting supplemental funds to projects that serve the above described target schools is a good way to ensure that projects serve the lowest income students because the free lunch is limited to students from families with the lowest family income. An estimated 150 current Upward Bound projects could receive supplemental funds to serve at least twenty (20) additional students.

Proposed Absolute Priority

Under 34 CFR 75.105(c), the Secretary proposes to give an absolute preference to applications that meet the following absolute priority.

The Secretary will provide supplemental funds of up to $100,000 to regular Upward Bound Program projects that:

1. Are selected for funding under the FY 2003 Upward Bound Program funding competition;

2. Serve a target high school in which at least 50 percent of the students were eligible to receive free lunch under the National School Lunch Act during the 2001-2002 school year;

3. Received supplemental funds in FY 2000 under the Notice of Final Priority dated July 24, 2000 (65 FR 45698-45699); and

4. Agree to select at least 20 students who attend a target high school in which at least 50 percent of the students were eligible to receive free lunches under the National School Lunch Act during the 2001-2002 school year and have the greatest need for project services. Students who have the greatest need for project services are those students who:

a. Have not met the State academic achievement standard for grade eight in reading/language arts;

b. Have not met the State academic achievement standard for grade eight in math; or

c. Have a grade point average of 2.5 or less (on a 4.0 scale) for the most recent school year for which grade point averages are available.

Veteran Upward Bound projects and Upward Bound Math/Science projects are not eligible to participate in this initiative.

The Secretary proposes to fund applications in the following order:

1. Applications that meet the absolute priority.

2. All other applications.

If funds are available after funding all applications that meet the absolute priority, the Secretary will select from among the remaining applicants based upon the highest scores received (including prior experience points) in the Upward Bound FY 2003 Funding Competition.

Upward Bound projects that wish to receive supplemental funds will be required to submit:

• The identity of the target schools to be served by the project.

• The number of students who were eligible for free lunch under the National School Lunch Act at each of the target high schools to be served by the project in the 2001-2002 school year and the total number of students enrolled at those target schools in that year,

• The number of additional students, not less than 20, that the project plans to serve,

• A revised budget; and

• A narrative describing how the supplemental funds will be used to address each participant's greatest need.

Performance Measures: The effectiveness of the Upward Bound Program Participant Expansion Initiative will be measured by the college enrollment rate of higher-risk low-income first generation college students who are program participants. All grantees will be expected to provide documentation of educational outcomes of participating students for the purposes of assessing the effectiveness of individual projects and the initiative overall.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and action for this program.

Applicable Program Regulations: 34 CFR part 645.

Electronic Access to This Document

You may view this document, as well as all other Department of Education documents published in the Federal Register, in text or Adobe Portable Document Format (PDF) on the Internet at either of the following site: http://www.ed.gov/legislation/FedRegister.html.

To use PDF, you must have the Adobe Acrobat Reader which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO access at: http://www.access.gpo.gov/nara/index.html.

Program Authority: 20 U.S.C. 1070.

Dated: June 19, 2003.
Sally L. Stroup,
Assistant Secretary, Office of Postsecondary Education.

[FR Doc. 03-15933 Filed 6-23-03; 8:45 am]

BILLING CODE 4000-01-P